ENVIRONMENTAL PROTECTION AGENCY

[EPA-HQ-OPP-2011-0558; FRL-8879-8]

Cancellation of Pesticides for Non-Payment of Year 2011 Registration Maintenance Fees

AGENCY: Environmental Protection Agency (EPA).

ACTION: Notice.

SUMMARY: Since the amendments of October 1988, the Federal Insecticide, Fungicide, and Rodenticide Act (FIFRA) has required payment of an annual maintenance fee to keep pesticide registrations in effect. The fee due last January 15, 2011, has gone unpaid for 254 registrations. Section 4(i)(5)(G) of FIFRA provides that the EPA Administrator may cancel these registrations by order and without a hearing; orders to cancel all 254 of these registrations have been issued within the past few days.

DATES: A cancellation is effective on the date the cancellation order is signed.

FOR FURTHER INFORMATION CONTACT: John Jamula, Information Technology and Resources Management Division (7502P), Office of Pesticide Programs, Environmental Protection Agency, 1200 Pennsylvania Ave., NW., Washington, DC 20460-0001; telephone number: (703) 305-6426; e-mail address: jamula.john@epa.gov.

SUPPLEMENTARY INFORMATION:

I. General Information

A. Does this action apply to me?

This action is directed to the public in general. Although this action may be of particular interest to persons who produce or use pesticides, the Agency has not attempted to describe all the specific entities that may be affected by this action. If you have any questions regarding the information in this notice, consult the person listed under FOR FURTHER INFORMATION CONTACT.

B. How can I get copies of this document and other related information?

EPA has established a docket for this action under docket identification (ID) number EPA-HQ-OPP-2011-0558. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

Section 4(i)(5) of FIFRA, as amended in October 1988 (Pub. L. 100-532), December 1991 (Pub. L. 102-237), and again in August 1996 (Pub. L. 104-170), requires that all pesticide registrants pay an annual registration maintenance fee, due by January 15 of each year, to keep their registrations in effect. This requirement applies to all registrations granted under FIFRA section 3 as well as those granted under FIFRA section 24(c) to meet special local needs. Registrations for which the fee is not paid are subject to cancellation by order and without a hearing.

The Food, Agriculture, Conservation, and Trade Act Amendments of 1991, Public Law 102-237, amended FIFRA to allow the EPA Administrator to reduce or waive maintenance fees for minor agricultural use pesticides when she determines that the fee would be likely to cause significant impact on the availability of the pesticide for the use. The Agency has waived the fee for 194 minor agricultural use registrations at the request of the registrants.

In fiscal year 2011, maintenance fees were collected in one billing cycle. The Pesticide Registration Improvement Renewal Act (PRIRA) was passed by Congress in October 2007. PRIRA authorized the Agency to collect $22 million in maintenance fees in fiscal year 2011. In late 2010, all holders of either FIFRA section 3 registrations or FIFRA section 24(c) registrations were sent lists of their active registrations, along with forms and instructions for responding. They were asked to identify which of their registrations they wished to maintain in effect, and to calculate and remit the appropriate maintenance fees. Most responses were received by the statutory deadline of January 15. A notice of intent to cancel was sent in February, 2011, to companies who did not respond and to companies who responded, but paid for less than all of their registrations. Since mailing the notices of intent to cancel, EPA has maintained a toll-free inquiry number through which the questions of affected registrants have been answered.

Maintenance fees have been paid for about 15,327 FIFRA section 3 registrations, or about 95% of the registrations on file in December 2010. Fees have been paid for about 2,053 FIFRA section 24(c) registrations, or about 90% of the total on file in December 2010. Cancellations for non-payment of the maintenance fee affect about 238 FIFRA section 3 registrations and about 16 FIFRA section 24(c) registrations.

The cancellation orders generally permit registrants to continue to sell and distribute existing stocks of the canceled products until January 15, 2012, 1 year after the date on which the fee was due. Existing stocks already in the hands of dealers or users, however, can generally be distributed, sold, or used legally until they are exhausted. Existing stocks are defined as those stocks of a registered pesticide product which are currently in the United States and which have been packaged, labeled, and released for shipment prior to the effective date of the cancellation order.

The exceptions to these general rules are cases where more stringent restrictions on sale, distribution, or use of the products have already been imposed, through special reviews or other Agency actions. These general provisions for disposition of stocks should serve in most cases to cushion the impact of these cancellations while the market adjusts.

III. Listing of Registrations Canceled for Non-Payment

Table 1 of this unit lists all of the FIFRA section 24(c) registrations, and Table 2 of this unit lists all of the FIFRA section 3 registrations which were canceled for non-payment of the 2011 maintenance fee. These registrations have been canceled by order and without hearing. Cancellation orders were sent to affected registrants via certified mail in the past several days. The Agency is unlikely to rescind cancellation of any particular registration unless the cancellation resulted from Agency error.

Table 1—FIFRA Section 24(c) Registrations Cancelled for Non-Payment of 2011 Maintenance Fee
SLN No. | Product name
AZ-07-0010 | Talus 40 Sc Insect Growth Regulator.
CA-08-0002 | Permethrin E Pro Termiticide/insecticide.
CA-08-0008 | Plantshield Hc Biological Fungicide.
CA-10-0009 | Ethylene Compressed Gas.
CA-89-0037 | Methyl Bromide 100.
FL-04-0004 | Fyfanon ULV.
FL-09-0001 | Diquat E-Pro 2 L Herbicide.
HI-07-0003 | Ovocontrol P Ready-To-Use Bait.
LA-08-0013 | Imida E-Pro 75 Wsp—Pre/post Construction Insecticide.
MI-09-0006 | Ovocontrol P 0.5%.
OR-06-0018 | Sprout Nip Emulsifiable Concentrate.
TX-07-0012 | Talus 40 Sc Insect Growth Regulator.
WA-00-0031 | Pear Wrap III.
WI-09-0001 | Sodium Hypochlorite 12.5%.
WY-10-0003 | Kaput-D Pocket Gopher Bait.
WY-10-0006 | Kaput-D Pocket Gopher Bait.

Table 2—FIFRA Section 3 Registrations Cancelled for Non-Payment of 2011 Maintenance Fee
Registration No. | Product name
000303-00225 | Matar.
000421-00435 | Mist Away Cleaner-Disinfectant.
000534-00098 | Ballistic.
000769-00965 | Sureco Permethrin Powder.
000777-00085 | Handel.
000777-00090 | Lysol Brand Disinfectant All Purpose Cleaner II.
000777-00092 | RB 101.
000777-00093 | Lysol Brand II Disinfectant Mist Away Daily Shower Cleaner.
000777-00098 | Brace Kitchens.
000777-00103 | Duraguard.
000784-00087 | Triple D.
001190-00040 | Pepco D-C.
001386-00053 | Superior Miscible Spray Oil.
001475-00159 | Willert Mosquito Coils.
001677-00091 | Trichlor-O-Cide XP 160.
001677-00195 | Eco2000-Rx Freshbait.
001719-00044 | Zin-Tox Wood Preservative.
001965-00008 | Vancide 51.
001965-00089 | Vancide MZ-96 Dispersion.
002517-00006 | Double Duty Cat Flea & Tick Spray.
002517-00034 | Sergeant's Foam 'n Comb Dry Shampoo for Dogs and Cats.
002517-00066 | Sergeant's Skip Flea & Tick Spray Shampoo Plus Conditio.
002517-00090 | Sergeant's Cyphenothrin+methoprene Squeeze-On for Dogs.
002517-00099 | Pyrethroid W.B. Concentrate.
002517-00104 | Preventic L.A. Flea and Tick Spray for Dogs.
002517-00105 | Natura Flea & Tick Collar for Dogs and Cats.
002517-00108 | Permethrin—IGR # 1 Flea and Tick Spray for Dogs.
002517-00113 | Permethrin-Pyriproxyfen Residual Shampoo for Dogs #2.
002517-00125 | Had-A-Snail.
003090-00218 | Sanitized Brand Pl 21-60.
003090-00219 | Sanitized Brand Pl 91-36.
003090-00222 | Sanitized Brand TB 83-35 MUP-DM.
003090-00223 | Sanitized Brand TB 83-35 DM.
003234-00044 | Ag-West Moss Killer Plus Lawn Food.
003282-00092 | D-Con Hideaway D-Con Bait Shield III.
003282-00093 | D-Con Corner-Fit D-Con Bait Shield IV.
003282-00094 | D-Con Hideaway D-Con Bait Shield V.
003282-00095 | D-Con Corner-Fit D-Con Bait Shield Vi.
003487-00019 | Eagles-7 Rat Bait.
003522-00015 | Luseaux S Q B 550.
004091-00014 | Super Mildex.
005680-00005 | CHC-15.
006186-00041 | Winterfect I.
006458-00001 | Cube Root Powder.
006718-00018 | Amway Germicidal Concentrate.
006785-00005 | Prestochlor Bleach.
007152-00020 | Seaboard Sea/gard the Winter Chemical.
007296-00015 | Gemchlor.
007455-00023 | R.o.l. Premix (contains Rabon Oral Larvicide).
007946-00018 | Mycoject.
008236-00002 | Thiram Technical.
008383-00001 | Permicide Brand Ristex.
008848-00011 | Black Jack Pine Aroma Disinfectant.
008848-00020 | Leader Formula #10 Super Roach Powder.
008848-00062 | Black Jack Fly and Mosquito Killer.
008848-00064 | Black Jack Multipurpose Insecticide.
008848-00066 | Black Jack Bull's Eye Wasp & Hornet Spray.
008848-00067 | Black Jack Liquid Multi-Purpose Insect Killer.
008848-00068 | Black Jack Automatic Indoor Fogger Roach Bomber II.
008848-00069 | Blackjack Crawling Insect Killer II.
008848-00070 | Blackjack Crawling Insect Killer I.
008848-00074 | Black Jack Pyraperm Household Insect Killer WBA P59.
008848-00077 | Black Jack Delta 0.02% HPC Liquid.
008848-00083 | Black Jack House & Garden Spray Liquid.
009078-00006 | Co-Op Cattle Mineral contains Rabon Oral Larvicide.
009374-00009 | Ragland Phos-8 with Rabon Oral Larvicide.
009630-00004 | 6% Copper Nap-All.
009630-00005 | M-Gard S120.
009630-00006 | 8% Zinc Nap-All.
009630-00007 | Zinc Hydro-Nap.
009630-00010 | M-Gard W550.
009630-00012 | M-Gard S520.
009630-00021 | M-Gard S 550.
010145-00004 | Vitasan 33.
010308-00021 | Insecticide Aerosol D-Phenothrin, 10%.
010308-00028 | Sumi-Alpha 10mc for PCO Use.
010308-00029 | Sumi-Alpha 10MC MUP.
010350-00057 | 3M Copper Granules.
010428-00016 | Chlor-San 16.
010801-00005 | Red Cross Nurse Brand Disinfectant & Air Deodorizer.
010806-00002 | Dog & Cat Repellent.
010806-00010 | Pro/pak Germicidal Cleaner Disinfectant Deodorizer.
010806-00088 | Contact Roach and Ant Killer X.
010806-00092 | Contact Liquid Gypsy Moth and Japanese Beetle Spray.
010937-00001 | Austin's Moth Control.
011435-00007 | Copper Hydroxide 50 WP.
027586-00001 | TM Biocontrol-1.
027586-00002 | Gypchek Biological Insecticide for the Gypsy Moth.
027586-00005 | Technical MCH.
029055-00003 | Sysco Reliance Ultra Disinfectant Bleach.
029055-20004 | Reliance Disinfectant Bleach.
033136-00001 | BRC 260 Algaecide/herbicide.
033658-00028 | Navigator Specialty Insecticide.
033660-00032 | Flutrix 4EC Att.
035896-00030 | Copper Hydroxide Technical.
036638-00029 | Nomate PBW Spiral.
037023-00003 | Kenic Flea Rid Flea and Tick Control Shampoo.
037982-00002 | Chlorine Gas.
039260-00001 | M-44 Cyanide Capsules.
041547-00001 | Algaecide Aquapill 5.
042177-00073 | Trichlor Time Release Canister.
042850-00002 | Diatect Multipurpose Insecticide.
043437-00003 | 8% Zinc Naphthenate.
043437-00004 | 8% Copper Naphthenate.
045851-00001 | Chlorine.
046183-00002 | Sani-Way 12.
046183-00006 | Bioway Tcl Chlorinating Sanitizer.
046270-00005 | Sanitizing Solution.
046597-00001 | Chemstar Chemaquacide.
048211-00008 | Stomp-Out Hydro-33 Weed Killer.
048211-00073 | Stomp Out Granular.
048390-00001 | Nutra-Blend 7.76 Fly Larvicide Premix.
048665-00002 | Shoofly Concentrate I.
049292-00010 | Sprite Sanitizer.
049403-00027 | Nipacide BFW.
052074-00001 | A.C.S. GIB.
052287-00010 | Fertilizer with Starteem(r) #1.
052287-00016 | Harrell's Granular Herbicide 63.
053668-00001 | Halox.
053853-00001 | Burgess Insect Fog.
053853-00002 | Black Flag Fogging Insecticide Formula 2.
055238-20001 | Sodium Hypochlorite Solution.
055272-00013 | Copper Hydroxide 90%.
056410-00001 | Liquefied Chlorine Gas Under Pressure.
061282-00007 | Ramik Meal Rodenticide for Control of Commensal Rats.
062451-00004 | Antguard Coasters and Covers.
062451-00005 | Antguard for Outdoor Use.
062451-00007 | Antguard Gaskets.
063191-00012 | St. Gabriel Laboratories Hot Pepper Wax Insect Repellent.
065595-00001 | Pine Power.
066306-00005 | Formula 7511/1 Insect Repellent Sunscreen SPF 30.
066306-00011 | Sunset Camo Face Paint with Insect Repellent.
067517-00063 | Bromethalin Bait.
067690-00017 | Cutless * TP.
067760-00014 | Nufos 15G Insecticide.
068329-00002 | Alpha 137.
068329-00003 | Alpha 139.
068329-00005 | Alpha 520.
068329-00018 | Uni-Klor C.
069361-00012 | Tebucon 45 Wp Fungicide.
069697-00001 | Pseudozyma Flocculos Strain PF-A22 Ul (tgai).
069697-00003 | Sporodex L Biological Fungicide.
069876-00001 | Qwel (CTI 13-19B) Liquid Concentrate.
070214-00001 | Sealife 1000 Antifouling Marine Paint.
070271-00016 | Huish—Sodium Hypochlorite 6.0%.
070791-00001 | Ecotru.
070799-00001 | Stapine Pine Oil Disinfectant & Deodorant Coef.5.
071532-00009 | LG Permastar Plus.
071713-00001 | Croak Cockroach Baits.
071983-00001 | Roof Reclaim! Mildew Prevention System Component I.
072158-00001 | Preddeter Repellent Strips.
072159-00006 | Acephate Pro 75 SP Insecticide.
072159-00010 | Acephate Pro 90 SP Insecticide.
072159-00016 | Shur-Kill.
072500-00016 | Kaput-D Vole Bait.
073079-00001 | Intice Sweet Ant Gel.
074343-00001 | True Stop Insecticide.
074530-00024 | Helm Diquat AG.
074530-00025 | Helm Diquat Aquatic.
074530-00026 | Helm Nicosulfuron 75.
074530-00029 | Helopyr Herbicide.
074530-00030 | Helmba Herbicide.
074530-00034 | Helm Halo 75.
074530-00039 | Heloprid 2 AG.
074530-00040 | Heloprid 4.
074681-00001 | Copper Pro 67 Marine Blue.
074681-00003 | Copper Guard 56 Marine Blue.
074999-00003 | Kapto K.
074999-00004 | Kapto K Aerosol.
075643-00001 | Clor-Fix GR90.
075710-00001 | Mite Away II Single Application Formic Acid Pad.
079817-00002 | Poolrx Unit & Booster.
080286-00003 | Splat Cydia.
080305-00003 | I-Ching Naphthalene Moth Balls.
081875-00001 | WS-BTI.
081910-00004 | Casacide T100.
081964-00002 | Acephate 75% SP.
081987-00002 | Drip Clear—Sodium Hypochlorite.
082200-00001 | Turf & Garden Seven % Granular Carbaryl Insecticide.
082437-00002 | 5-15-5 with Gro-Root Xtra (GRX).
082498-00001 | Grandslam 4 Herbicide.
082498-00006 | Glyphosate 62% Manufacturing Concentrate.
082542-00011 | Abamectin 0.15ec AQ Insecticide/miticide.
082542-00012 | Abamectin 0.15ec T&o Insecticide/miticide.
082542-00016 | Technical Imidacloprid.
082542-00023 | Solera Imidacloprid 2f Greenhouse/nursery Insecticide.
082542-00024 | Solera Imidacloprid 2f T&O Insecticide.
082669-00001 | Bio-Ud-8 Lotion.
082669-00003 | Homs Bite Blocker Bioud Clothing & Gear Repellent.
082899-00001 | Oxyvap.
083071-00001 | Activ-Ox 20.
083607-00001 | Mycotek.
083607-00002 | Core Tek 24 (tm).
083979-00002 | Rowrunner Ag Herbicide.
083979-00003 | Rowrunner Ato Herbicide.
084054-00001 | Konica Nice Print System Cleaning Agent-J.
084079-00001 | Roof Reviver Roof Cleaner.
084229-00005 | Triadimefon Technical.
084401-00001 | Invicta Clothing Insect Repellent Kit.
084456-00001 | Abamectin Technical.
084456-00003 | Abamectin 2% Ornamental Miticide/insecticide.
084456-00004 | Abamectin 2% Miticide/insecticide.
084592-00001 | Bylohas Pest controller.
085346-00001 | Armamet.
085437-00001 | Food Contact Sanitizer.
085607-00001 | Reddick Pic-C100.
085798-00001 | Microbeguard.
085798-00002 | Duraban-1.
085798-00003 | Duraban.
085798-00004 | Mold Shield.
085948-00001 | Q-104.
086098-00001 | Reserve 41 Plus.
086154-00002 | Trace Mountain—Dicamba 4.
086154-00003 | Trace Mountain—Acephate 90 SP.
086154-00004 | Trace Mountain—Bifenthrin 2 EC.
086154-00005 | Trace Mountain—Glyphosate.
086154-00006 | Trace Mountain Mepiquat.
086154-00007 | Trace Mountain 2,4-D Amine 4.
086154-00008 | Trace Mountain 2,4-D LV 4 E.
086154-00009 | Trace Mountain Dicamba + 2,4-D.
086154-00010 | Trace Mountain 2,4-D Lv6e.
086154-00011 | Trace Mountain Bifenthrin CA.
086197-00001 | Fsti Sodium Hypochlorite Solution (12.5%).
086197-00002 | Fsti Sodium Hypochlorite Solution (10%).
086296-00001 | Trustchem Tebuconazole Technical Fungicide.
086501-00002 | Clear Up.
086501-00003 | Glyphosate 62% Manufacturing Concentrate.
086516-00002 | Bug Blockade Bed Bug Treatment.
086530-00003 | Agrilon Glyphosate 62% Mup II.
086530-00004 | Agrilon Glyphosate Technical II.
086702-00001 | Gly 62% MC.
086702-00002 | Gly 41% Herbicide.
086722-00001 | Syncide SCP MUP.
086722-00002 | Syncide SCP.
086869-00001 | Imidacloprid 75 WSP Select.
087099-00001 | Greenstar Ag Chemical Dynasty Plus 41% Glyphosate.
087276-00002 | Equil Bifen 7.9f Insecticide.
087276-00003 | Equil Cyper Insecticide.
087792-00001 | Silvertex.

IV. Provisions for Disposition of Existing Stocks

The effective date of cancellation will be the date the cancellation order is signed. The orders effecting these requested cancellations will generally permit a registrant to sell or distribute existing stocks until January 15, 2012, 1 year after the date on which the fee was due.

Existing stocks are those stocks of registered pesticide products which are currently in the United States and which have been packaged, labeled, and released for shipment prior to the effective date of the cancellation order. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

V. Docket

Complete lists of registrations canceled for non-payment of the maintenance fee will also be available for reference during normal business hours in the OPP Regulatory Public Docket, Rm. S-4400, One Potomac Yard (South Bldg.), 2777 S. Crystal Dr., Arlington, VA. Product-specific status inquiries may be made by calling toll-free, 1-800-444-7255.

List of Subjects

Environmental protection, Administrative practice and procedure, Pesticides and pests.

Dated: July 15, 2011.
Steven Bradbury,
Director, Office of Pesticide Programs.

[FR Doc. 2011-18706 Filed 7-26-11; 8:45 am]

BILLING CODE 6560-50-P